DEPARTMENT OF TRANSPORTATION

National Highway Traffic Safety Administration

Reports, Forms and Record Keeping Requirements; Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on February 28, 2001 [66 FR 12829-12831].

DATES: Comments must be submitted on or before January 9, 2002.

FOR FURTHER INFORMATION CONTACT: Alberto Jimenez at the National Highway Traffic Safety Administration, Office of Defects and Investigations (NSA-10.1), 202-366-5212. 400 Seventh Street, SW, Room 5219, Washington, DC 20590.

SUPPLEMENTARY INFORMATION:

National Highway Traffic Safety Administration

Title: Consumer Complaint/Recall Audit Information.

OMB Number: 2127—0008.

Type of Request: Reinstatement, with change, of a previously approved collection for which approval has expired.

Abstract: Vehicle owners provide the agency with information on problems they are experiencing with their vehicles/equipment by an initial call to the agency's toll-free Auto Safety Hotline and by written letters. A Vehicle Owner's Questionnaire (VOQ), HS Form 350, or HS Form 350C is forwarded to the owner. A cover letter of explanation is also sent with the VOQs. The letter is to facilitate and simplify the collection process on the complaint. Frequently, written letters do not provide complete data of the specific problem(s) on the vehicle or equipment. If incomplete information is received, the HS-350 is sent to the owner for additional information. If the problem concerns a child safety seat, the HS-350C, is sent. The information received on these forms is essential to NHTSA's defects investigation program. The thousands of individual reports received each year are used to help identify safety problems for investigation and possible recalls. This information identifies defect trends in vehicles and vehicle equipment and alerts the agency of these problems.

Affected Public: Individuals or households.

Estimated Total Annual Burden: 45,045.

ADDRESS: Send comments, within 30 days, to the Office of Information and Regulatory Affairs, Office of Management and Budget, 725-17th Street, NW., Washington, DC 20503, Attention NHTSA Desk Officer.

Comments are invited on: Whether the proposed collection of information is necessary for the proper performance of the functions of the Department, including whether the information will have practical utility; the accuracy of the Departments estimate of the burden of the proposed information collection; ways to enhance the quality, utility and clarity of the information to be collected; and ways to minimize the burden of the collection of information on respondents, including the use of automated collection techniques or other forms of information technology. A comment to OMB is most effective if OMB receives it within 30 days of publication.

Issued in Washington, D.C., on November 26, 2001.
Delmas Johnson,
Acting Associate Administrator for Administration.

[FR Doc. 01-30418 Filed 12-7-01; 8:45 am]

BILLING CODE 4910-59-P